DEPARTMENT OF AGRICULTURE

Submission for OMB Review; Comment Request

July 24, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Food Stamp Program: State Agency Options.

OMB Control Number: 0584-0496.

Summary of Collection: The Food Stamp Act of 1977, as amended by the Personal Responsibility and Work Opportunity Reconciliation Act (PRWORA) establishes a program whereby needy households apply for and receive food stamp benefits. It specifies national eligibility standards but allows State agencies certain options in administering the program. These options relate to establishing a homeless shelter deduction; establishing periodically reviewing, and updating standard utility allowances to be used in excess shelter cost computation; and establishing a methodology for offsetting costs of producing self-employment income. The Food and Nutrition Service (FNS) will collect information from state agencies on the methods used to calculate these deductions and allowances.

Need and Use of the Information: FNS will collect information from State agencies on how the various Food Stamp Program implementation options will be determined. The information collected will be used by FNS to establish quality control reviews, standards and self-employment costs.

Description of Respondents: State, Local or Tribal Government.

Number of Respondents: 53.

Frequency of Responses: Recordkeeping; Reporting: On occasion.

Total Burden Hours: 236.

Ruth Brown,
Departmental Information Collection Clearance Officer.

[FR Doc. E7-14562 Filed 7-26-07; 8:45 am]

BILLING CODE 3410-30-P